DEPARTMENT OF THE INTERIOR

Bureau of Reclamation

[RR83550000, 167R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice on February 19, 2016 (81 FR 8537). This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and Industrial

NMISC New Mexico Interstate Stream Commission

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

PACIFIC NORTHWEST REGION: Bureau of Reclamation, 1150 North Curtis Road, Suite 100, Boise, Idaho 83706-1234, telephone 208-378-5344.

New contract action:

16. Clean Water Services and Tualatin Valley ID, Tualatin Project, Oregon: Long-term water service contract that provides for the District to allow Clean Water Services to beneficially use up to 6,000 acre-feet annually of stored water for water quality improvement.

MID-PACIFIC REGION: Bureau of Reclamation, 2800 Cottage Way, Sacramento, California 95825-1898, telephone 916-978-5250.

The Mid-Pacific Region has no updates to report for this quarter.

LOWER COLORADO REGION: Bureau of Reclamation, P.O. Box 61470 (Nevada Highway and Park Street), Boulder City, Nevada 89006-1470, telephone 702-293-8192.

Completed contract actions:

15. La Paz County and Ehrenberg Improvement Association, BCP, Arizona: Review and approve a proposed partial assignment to the Association of 150 acre-feet per year of La Paz County's Arizona fourth priority water entitlement amount of 500 acre-feet per year and execute the associated amendments to La Paz County's and the Association's contracts. Contract executed on December 22, 2015.

17. San Carlos Apache Tribe and the Pascua Yaqui Tribe, CAP, Arizona: Execute a CAP water lease in order for the San Carlos Apache Tribe to lease 790 acre-feet of its CAP water to the Pascua Yaqui Tribe during calendar year 2016. Contract executed on March 17, 2016.

18. Chandler Heights Citrus ID and Central Arizona Water Conservation District, CAP, Arizona: Execute a proposed assignment to Central Arizona Water Conservation District of Chandler Heights Citrus ID's 315 acre-foot annual CAP water entitlement. Contract executed on March 14, 2016.

20. Mohave County Water Authority, BCP, Arizona: Amend Exhibit D to the Authority's Colorado River water delivery contract to update the list of subcontractors with the Authority. Contract executed on February 29, 2016.

UPPER COLORADO REGION: Bureau of Reclamation, 125 South State Street, Room 8100, Salt Lake City, Utah 84138-1102, telephone 801-524-3864.

New contract actions:

26. Ephraim Irrigation Company, Sanpete Project, Utah: The Company proposes to enclose the Ephraim Tunnel with a 54-inch pipe. A supplemental O&M agreement will be necessary to obtain the authorization to modify Federal facilities.

27. Eden Valley Irrigation and Drainage District, Eden Project, Wyoming: The District proposes to raise the level of Big Sandy Dam to shore up its water rights. A supplemental O&M agreement will be necessary to obtain the authorization to modify Federal facilities.

28. Uintah Water Conservancy District, Central Utah Project—Vernal Unit, Utah: Due to sloughing on the face of Steinaker Dam north of Vernal, Utah, a SOD fix authorized under the SOD Act of 1978 may be necessary to perform the various functions necessary to bring Steinaker Reservoir back to full capacity. This will require a repayment contract with the United States.

29. Navajo-Gallup Water Supply Project: Pursuant to legislation and Section 10602(h) of Pub. L. 111-11, project facilities may be used to treat and convey nonproject water. Before delivery of project water from the San Juan River, a need will exist for nonproject water to be delivered to the Navajo Nation. A carriage contract has been drafted and is currently under internal review (Reclamation) then will be negotiated with the Navajo Nation in a public setting.

30. Jicarilla Apache Nation, Navajo Project, New Mexico: Water service agreement between the Jicarilla Apache Nation and the San Juan Basin Water Haulers Association for delivery of 200 acre-feet of M&I water from the Jicarilla's settlement water from the Navajo Reservoir Supply. This agreement will have a term of 5 years (2016-2020) and will replace the expired previous agreement which was in place for 10 years.

31. North Fork Water Conservancy District and Ragged Mountain Water Users Association, Paonia Project, Colorado. An existing contract for 2,000 acre-feet will expire on December 31, 2016. The parties have requested a 5-year contract that will begin when the existing contract expires. The new contract will be for up to 2,000 acre-feet of water with up to 200 acre-feet available for M&I uses.

Modified contract action:

14. South Cache Water Users Association, Hyrum Project, Utah: The Association desires to pipe approximately 2,100 linear feel of the Hyrum-Mendota Canal to combat seepage issues below Hyrum Dam. A supplemental O&M agreement is necessary for Reclamation to provide consent to the modification of the Federal facilities.

Completed contract actions:

5. Uintah Water Conservancy District; Vernal Unit, CUP; Utah: Proposed carriage contract to both store up to 35,000 acre-feet of nonproject water in Steinaker Reservoir and carry nonproject water in the Steinaker Service and Feeder Canals. Contract executed on February 12, 2016.

21. Southern Ute Indian Tribe, Animas-La Plata Project, Colorado: Requested a water delivery contract for 33,519 acre-feet of M&I water; contract terms to be consistent with the Colorado Ute Settlement Act Amendments of 2000 (Title III of Pub. L. 106-554). Contract executed on January 14, 2016.

GREAT PLAINS REGION: Bureau of Reclamation, P.O. Box 36900, Federal Building, 2021 4th Avenue North, Billings, Montana 59101, telephone 406-247-7752.

New contract actions:

39. South Chester County Water District; Lower Marias Unit, P-SMBP; Montana: Consideration to renew of long-term M&I water service contract No. 14-06-600-2022A.

40. Nathan D. and Kindra Young; Canyon Ferry Unit, P-SMBP; Montana: Consideration to renew short-term M&I water service contract No. 129E670093.

41. Central Oklahoma Master Conservancy District, Norman Project, Oklahoma: Consideration of a contract for a supply of water made possible when infrequent and otherwise unmanageable flood flows of short duration create a temporary supply of water.

Modified contract action:

22. Helena Valley ID; Helena Valley Unit, P-SMBP; Montana: Consideration of a contract to allow for delivery of up to 500 acre-feet of water for M&I purposes.

Completed contract action:

29. Larry TenBensel; Frenchman Cambridge, P-SMBP; Nebraska: Consideration of a long-term Warren Act contract. Contract executed on March 15, 2016.

Dated: April 14, 2016.
Roseann Gonzales,
Director, Policy and Administration.

[FR Doc. 2016-13237 Filed 6-3-16; 8:45 am]

BILLING CODE 4332-90-P